ENVIRONMENTAL PROTECTION AGENCY

[FRL-7520-6]

Environmental Laboratory Advisory Board (ELAB) Meeting Dates, and Agenda

AGENCY: Environmental Protection Agency.

ACTION: Notice of Teleconference Meeting.

SUMMARY: The Environmental Protection Agency's Environmental Laboratory Advisory Board (ELAB) will have teleconference meetings on July 16, 2003, at 1 P.M. ET; August 20, 2003 at 1 P.M. ET; September 17, 2003 at 1 P.M. ET; October 15, 2003, at 1 P.M. ET; November 19, 2003, at 1 P.M. ET; and December 17, 2003, at 1 P.M. ET to discuss the ideas and views presented at the previous ELAB meetings, as well as new business. Items to be discussed by ELAB over these coming meetings include: (1) Non-participating laboratories; (2) Consensus Standards White Paper; (3) ECOS Letter; (4) Homeland security discussion in general; (5) method detection limit related issues; (6) NELAC membership issue and benefits; and (7) follow-up on some of ELAB's past recommendations and issues. Written comments on NELAP laboratory accreditation and the NELAC standards are encouraged and should be sent to Ms. Lara P. Autry, DFO, U.S. EPA (E243-05), 4930 Old Page Road, Research Triangle Park, NC 27709, faxed to (919) 541-4261, or e-mailed to autry.lara@epa.gov. Members of the public are invited to listen to the teleconference calls, and time permitting, will be allowed to comment on issues discussed during this and previous ELAB meetings. Those persons interested in attending should call Lara P. Autry at (919) 541-5544 to obtain teleconference information. The number of lines for the teleconferences, however, are limited and will be distributed on a first come, first serve basis. Preference will be given to a group wishing to attend over a request from an individual.

Dated: June 12, 2003.
Lionel Dorsey Worthy, Jr.,
Chief, Landscape Characterization Branch, Environmental Sciences Division, National Environmental Research Laboratory.

[FR Doc. 03-16586 Filed 6-30-03; 8:45 am]

BILLING CODE 6560-50-P